DEPARTMENT OF TRANSPORTATION

[4910-RY]

Federal Highway Administration

Notice of Final Federal Agency Actions on Proposed Highway in California

AGENCY: Federal Highway Administration (FHWA), Department of Transportation (DOT).

ACTION: Notice of Limitation on Claims for Judicial Review of Actions by the California Department of Transportation (Caltrans).

SUMMARY: The FHWA, on behalf of Caltrans, is issuing this notice to announce actions taken by Caltrans, that are final. The actions relate to a proposed highway project, SR-710 North Project to improve mobility and relieve congestion in the area between State Route 2/Interstate 5, and Interstates 10, 210, and 605 in east/northeast Los Angeles and the western San Gabriel Valley in the County of Los Angeles, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before [INSERT DATE 150 DAYS AFTER PUBLICATION IN THE Federal Register]. If the Federal law that authorizes judicial review of a claim provides a time period of less than 150 days for filing such claim, then that shorter time period still applies.

FOR FURTHER INFORMATION CONTACT: For Caltrans: Jason Roach, Branch Chief, Division of Environmental Planning. California Department of Transportation-District 7, 100 South Main Street MS 16A, Los Angeles, CA 90012. Office Hours 9:00 a.m. to 5:00 p.m. Pacific Standard Time, telephone: 213-897-0357 or email jason.roach@dot.ca.gov. For FHWA: Dave Tedrick at 916-498-5024 or email david.tedrick@dot.gov.

SUPPLEMENTARY INFORMATION: Effective July 1, 2007, FHWA assigned, and Caltrans assumed, environmental responsibilities for this project pursuant to 23 U.S.C. 327. Notice is hereby given that Caltrans has taken final agency actions subject to 23 U.S.C. 139(l)(1) by issuing licenses, permits, and approvals for the following highway project in the State of California: The Transportation System Management/Transportation Demand Management (TSM/TDM) Alternative would improve local traffic operations, mobility and accessibility. Further, this Alternative would enhance modal choice while accommodating planned growth within the study area and minimizing environmental impacts. The TSM/TDM Alternative would provide direct benefits for traffic circulation on local arterials and some benefit to the regional freeway and transit networks resulting from the following improvements:

1. Signal optimization

2. Local street and intersection improvements

3. Transit service improvements

4. Bus service enhancements

5. Bicycle facility improvements

The actions by the Federal agencies, and the laws under which such actions were taken, are described in the Final Environmental Impact Statement (FEIS) for the project, approved on November 26, 2018, in the FHWA Record of Decision (ROD) issued on August 6, 2019, and in other documents in the Caltrans project records. The FEIS and other project records are available by contacting Caltrans at the address provided above. The Caltrans FEIS can be viewed and downloaded from the project website at http://www.dot.ca.gov/d7/env-docs/docs/SR710NorthProject/, or viewed at public libraries in the project area.

This notice applies to all Federal agency decisions as of the issuance date of this notice and all laws under which such actions were taken, including but not limited to:

1. Council on Environmental Quality Regulations (40 CFR 1500 et seq, 23 CFR 771);

2. National Environmental Policy Act of 1969, as amended, 42 U.S.C. 4321 et seq.;

3. Department of Transportation Act of 1966, Section 4(f);

3. Federal-Aid Highway Act of 1970, (23 U.S.C. 109, as amended by FAST Act Section 1404(a), Pub. L. 114-94, and 23 U.S.C. 128);

4. Moving Ahead for Progress in the 21st Century Act (MAP-21), PL 112-141

5. Clean Air Act, as amended (42 U.S.C. 7401 et seq. (Transportation Conformity), 40 CFR part 93);

6. Clean Water Act of 1977 and 1987 (33 U.S.C. 1251 et seq.);

7. Federal Water Pollution Control Act of 1972 (see Clean Water Act of 1977 and 1987)

8. National Historic Preservation Act of 1966, as amended (Section 106)

9. Hazardous and Solid Waste Amendments (HSWA) of 1984 (see Resource Conservation and Recovery Act of 1976)

10. Federal Land Policy and Management Act of 1976, Pub. L. 94-579;

11. Pollution Prevention Act

11. Noise Control Act of 1972

10. Uniform Relocation Assistance and Real Property Acquisition Policy Act of 1970, as amended in 1987

11. Executive Order 13112, Invasive Species

12. Executive Order 13186 Migratory Bird Treaty Act

13. Title VI of the Civil Rights Act of 1964, as amended

14. Executive Order 12898, Environmental Justice (February 1984)

(Catalog of Federal Domestic Assistance Program Number 20.205, Highway

Planning and Construction. The regulations implementing Executive Order 12372 regarding intergovernmental consultation on Federal programs and activities apply to this program.)

Authority: 23 U.S.C. 139(l)(1)

Issued on: August 27, 2019.
Tashia J. Clemons,
Director, Planning and Environment, Federal Highway Administration, Sacramento, California.

[FR Doc. 2019-18988 Filed 8-30-19; 8:45 am]

BILLING CODE 4910-RY-P